DEPARTMENT OF ENERGY

Federal Energy Regulatory Commission

Notice of Effectiveness of Exempt Wholesale Generator or Foreign Utility Company Status

September 12, 2007.

Bethlehem Renewable Energy, LLC (EG07-53-000); El Segundo Power II LLC (EG07-57-000); Forward Energy LLC (EG07-58-000); Kleen Energy Systems, LLC (EG07-59-000); Hopewell Cogeneration Limited Partnership (EG07-60-000); Peetz Table Wind Energy, LLC (EG07-62-000); NRG Texas Power LLC (EG07-63-000); Jamaica Private Power Company Limited and Private Power Operators Limited (FC07-51-000)

Take notice that during the month of August 2007, the status of the above-captioned entities as Exempt Wholesale Generators or Foreign Utility Companies became effective by operation of the Commission's regulations. 18 CFR 366.7(a).

Kimberly D. Bose,
Secretary.

[FR Doc. E7-18444 Filed 9-18-07; 8:45 am]

BILLING CODE 6717-01-P